U.S.-CHINA ECONOMIC AND SECURITY REVIEW COMMISSION

Notice of Open Meetings To Prepare the 2014 Annual Report to Congress; Advisory Committee: U.S.-China Economic and Security Review Commission; Correction

AGENCY: U.S.-China Economic and Security Review Commission.

ACTION: Notice; correction.

SUMMARY: The U.S.-China Commission published a document in the Federal Register on July 07, 2014, concerning notice of open meetings to be held in Washington, DC to review and edit drafts of the 2014 Annual Report to Congress. The date for one meeting has changed.

FOR FURTHER INFORMATION CONTACT: Reed Eckhold, 202-624-1496.

Correction

In the Federal Register of July 07, 2014, in FR Doc. 2014-15732 on page 38362, in the second column, correct the “Dates, Times, and Room Locations” caption to read:

Dates, Times, And Room Locations (Eastern Daylight Time):

• Wednesday and Thursday, October 08-09, 2014 (9:00 a.m. to 5:00 p.m.)—Room 383

Dated: September 23, 2014.
Michael Danis,
Executive Director, U.S.-China Economic and Security Review Commission.

[FR Doc. 2014-23029 Filed 9-25-14; 8:45 am]

BILLING CODE 1137-00-P